FEDERAL TRADE COMMISSION

16 CFR Part 305

RIN 3084-AB03

Rule Concerning Disclosures Regarding Energy Consumption and Water Use of Certain Home Appliances and Other Products Required Under the Energy Policy and Conservation Act (“Appliance Labeling Rule”)

AGENCY: Federal Trade Commission.

ACTION: Extension of comment period.

SUMMARY: In a November 28, 2011 Federal Register Notice, the Federal Trade Commission (“Commission”) published an Advance Notice of Proposed Rulemaking (“ANPR”) on disclosure requirements for heating and cooling equipment. In response to a request, the Commission is extending the comment period from January 10, 2012 to February 6, 2012.

DATES: Written comments must be received on or before February 6, 2012.

ADDRESSES: Interested parties may file a comment online or on paper, by following the instructions in the Request for Comment part of the SUPPLEMENTARY INFORMATION section below. Write “Regional Labeling for Heating and Cooling Equipment (16 CFR Part 305) (Project No. P114202)” on your comment, and file your comment online at https://public.commentworks.com/ftc/regional-disclosuresanpr, by following the instructions on the webbased form. If you prefer to file your comment on paper, mail or deliver your comment to the following address: Federal Trade Commission, Office of the Secretary, Room H-113 (Annex H), 600 Pennsylvania Avenue NW., Washington, DC 20580.

FOR FURTHER INFORMATION CONTACT: Hampton Newsome, Attorney, (202) 326-2889, Division of Enforcement, Federal Trade Commission, 600 Pennsylvania Avenue NW., Washington, DC 20580.

SUPPLEMENTARY INFORMATION: The Commission is extending the comment period for its ANPR on heating and cooling equipment disclosures to February 6, 2012. The Commission's November 28, 2011 ANPR (76 FR 72872) solicited comments on possible disclosures for heating and cooling equipment to help industry members and consumers determine whether equipment meets applicable new Department of Energy (“DOE”) efficiency standards for specific regions. The ANPR's comment period ends on January 10, 2012. Shortly after publication of the ANPR, DOE issued a related Notice of Data Availability ¹ seeking comments on an enforcement plan for the new regional standards. The FTC disclosures and the DOE plan involve overlapping issues. DOE's comment period ends February 6, 2012.

¹ 76 FR 76328 (Dec. 7, 2011).

At a joint December 16, 2011 public meeting about the FTC disclosures and the DOE plan, the American Council for an Energy Efficient Economy requested that the FTC extend its comment deadline to match DOE's February 6, 2012 date. The Commission is extending the deadline as requested. The extension will ensure consistent timing in the FTC and DOE comment periods and will provide additional time for comment preparation.

By direction of the Commission.
Richard C. Donohue
Acting Secretary.

[FR Doc. 2011-33696 Filed 1-3-12; 8:45 am]

BILLING CODE 6750-01-P